INTERNATIONAL TRADE COMMISSION

[Investigation No. 731-TA-1339 (Final)]

Steel Concrete Reinforcing Bar From Taiwan

Determination

On the basis of the record ¹ developed in the subject investigation, the United States International Trade Commission (“Commission”) determines, pursuant to the Tariff Act of 1930 (“the Act”), that an industry in the United States is materially injured by reason of imports of steel concrete reinforcing bar from Taiwan, provided for in subheadings 7213.10, 7214.20, and 7228.30 of the Harmonized Tariff Schedule of the United States, that have been found by the Department of Commerce (“Commerce”) to be sold in the United States at less than fair value (“LTFV”).

¹ The record is defined in sec. 207.2(f) of the Commission's Rules of Practice and Procedure (19 CFR 207.2(f)).

Background

The Commission, pursuant to section 735(b) of the Act (19 U.S.C. 1673d(b)), instituted this investigation effective September 20, 2016, following receipt of a petition filed with the Commission and Commerce by the Rebar Trade Action Coalition and its individual members: Bayou Steel Group, LaPlace, Louisiana; ² Byer Steel Group, Inc., Cincinnati, Ohio; Commercial Metals Company, Irving, Texas; Gerdau Ameristeel U.S. Inc., Tampa, Florida; Nucor Corporation, Charlotte, North Carolina; and Steel Dynamics, Inc., Pittsboro, Indiana. The final phase of the investigation was scheduled by the Commission following notification of a preliminary determination by Commerce that imports of rebar from Taiwan were sold at LTFV within the meaning of 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on March 15, 2017 (82 FR 13854). The hearing was held in Washington, DC, on May 18, 2017, and all persons who requested the opportunity were permitted to appear in person or by counsel.

² Bayou Steel Group was no longer a petitioner in the final phase of this investigation.

The Commission made this determination pursuant to section 735(b) of the Act (19 U.S.C. 1673d(b)). It completed and filed its determination in this investigation on September 11, 2017. The views of the Commission are contained in USITC Publication 4724 (September 2017), entitled Steel Concrete Reinforcing Bar from Taiwan: Investigation No. 731-TA-1339 (Final).

By order of the Commission.
Issued: September 11, 2017.
Lisa R. Barton,
Secretary to the Commission.

[FR Doc. 2017-19557 Filed 9-14-17; 8:45 am]

BILLING CODE 7020-02-P